DEPARTMENT OF ENERGY

Notice of Intent To Prepare a Supplement to the Stockpile Stewardship and Management Programmatic Environmental Impact Statement—Complex 2030

Correction

In notice document E6-17508 beginning on page 61731 in the issue of Thursday, October 19, 2006, make the following correction:

On page 61731, in the second column, under the heading “DATES”, in the sixth line, “January 17, 2006” should read “January 17, 2007”.

[FR Doc. Z6-17508 Filed 10-23-06; 8:45 am]

BILLING CODE 1505-01-D